DEPARTMENT OF HOMELAND SECURITY

Coast Guard

33 CFR Part 117

[Docket No. USCG-2018-0019]

Drawbridge Operation Regulation; Atlantic Intracoastal Waterway, Ormond Beach, FL

AGENCY: Coast Guard, DHS.

ACTION: Notice of deviation from drawbridge regulation.

SUMMARY: The Coast Guard has issued a temporary deviation from the operating schedule that governs the Highbridge Road (Knox) Bridge across the Atlantic Intracoastal Waterway (Halifax River), mile 816.0, at Ormond Beach, FL.

The deviation is necessary to accommodate the replacement of trunnion bearings for the west bascule leaf. This deviation allows the bridge single-leaf operations, reducing the horizontal clearance to 45 feet.

DATES: This deviation is effective without actual notice from January 19, 2018 through 7 p.m. on February 20, 2018. For the purposes of enforcement, actual notice will be used from 7 a.m. on January 16, 2018, until January 19, 2018.

ADDRESSES: The docket for this deviation, USCG-2018-0019, is available at http://www.regulations.gov. Type the docket number in the “SEARCH” box and click “SEARCH”. Click on Open Docket Folder on the line associated with this deviation.

FOR FURTHER INFORMATION CONTACT: If you have questions on this temporary deviation, call or email MST3 Rory Boyle, Coast Guard Sector Jacksonville, Waterways Management Division, telephone 904-714-7648, email Rory.C.Boyle@uscg.mil.

SUPPLEMENTARY INFORMATION: The owner of the bridge, Volusia County, Florida, requested a temporary deviation. The trunnion bearings on the west bascule leaf are damaged. Replacement requires jacking the bascule leaf to remove and install new bearings.

The Highbridge Road (Knox) Bridge across the Atlantic Intracoastal Waterway (Halifax River), mile 816.0, at Ormond Beach, Florida is a double-leaf bascule bridge with a vertical clearance of 11 feet at mean high water in the closed position and a horizontal clearance of 91 feet between fenders. The existing bridge operating schedule is published in 33 CFR 117.5.

This temporary deviation allows the bridge single-leaf operations from 7 a.m. on January 16, 2018 through 7 p.m. on February 20, 2018. This temporary deviation will reduce the horizontal clearance to 45 feet through the east bascule span. The waterway is used by a variety of vessels including U.S. government vessels, small commercial vessels, recreational vessels and tugs and barge traffic. Due to the mechanical issues, the bridge has operated on single-leaf operations with a double-leaf opening upon request. Vessels able to pass through the bridge in the closed position may do so at any time. The bridge will not be able to provide a double-leaf opening for emergencies and there is no immediate alternate route for vessels to pass.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: January 16, 2018.
Barry L. Dragon,
Director, Bridge Branch, Seventh Coast Guard District.

[FR Doc. 2018-00937 Filed 1-18-18; 8:45 am]

BILLING CODE 9110-04-P